SMALL BUSINESS ADMINISTRATION

[Declaration of Disaster #3516]

State of Arkansas

As a result of the President's major disaster declaration for Public Assistance on June 6, 2003, and subsequent amendments closing the incident period effective June 10 and adding Individual Assistance on June 20, 2003, I find that the following counties in the State of Arkansas constitute a disaster area due to damages caused by severe storms, tornadoes, and flooding that occurred on May 2, 2003 and continuing through June 10, 2003: Benton, Chicot, Cleburne, Columbia, Conway, Craighead, Cross, Crittenden, Faulkner, Fulton, Jackson, Lonoke, Nevada, Perry, Phillips, Poinsett, St. Francis, White, and Woodruff. Applications for loans for physical damage as a result of this disaster may be filed until the close of business on August 19, 2003 and for economic injury until the close of business on March 22, 2004 at the address listed below or other locally announced locations: Small Business Administration, Disaster Area 3 Office, 4400 Amon Carter Blvd., Suite 102, Fort Worth, TX 76155.

In addition, applications for economic injury loans from small businesses located in the following contiguous counties may be filed until the specified date at the above location: Arkansas, Ashley, Baxter, Carroll, Clark, Desha, Drew, Garland, Greene, Hempstead, Independence, Izard, Jefferson, Lafayette, Lawrence, Lee, Madison, Mississippi, Monroe, Ouachita, Pike, Pope, Prairie, Pulaski, Saline, Sharp, Stone, Union, Van Buren, Washington, and Yell in the State of Arkansas; Claiborne, East Carroll, Morehouse, Webster, and West Carroll in the State of Louisiana; Bolivar, Coahoma, De Soto, Issaquena, Tunica, and Washington in the State of Mississippi; Barry, Dunklin, Howell, McDonald, Oregon, and Ozark in the State of Missouri; Adair and Delaware in the State of Oklahoma; and Shelby and Tipton in the State of Tennessee.

The interest rates are:

For Physical Damage:

Homeowners with credit available elsewhere—5.625%.

Homeowners without credit available elsewhere—2.812%.

Businesses with credit available elsewhere—5.906%.

Businesses and non-profit organizations without credit available elsewhere—2.953%.

Others (including non-profit organizations) with credit available elsewhere—5.500%.

For Economic Injury:

Businesses and small agricultural cooperatives without credit available elsewhere—2.953%.

The number assigned to this disaster for physical damage is 351611. For economic injury, the numbers are 9W0600 for Arkansas, 9W0700 for Louisiana, 9W0800 for Mississippi, 9W0900 for Missouri, 9W1000 for Oklahoma, and 9W1100 for Tennessee.

(Catalog of Federal Domestic Assistance Program Nos. 59002 and 59008).
Dated: June 25, 2003.
Herbert L. Mitchell,
Associate Administrator for Disaster Assistance.

[FR Doc. 03-16698 Filed 7-1-03; 8:45 am]

BILLING CODE 8025-01-P